Proclamation 10614 of August 31, 2023

National Recovery Month, 2023

By the President of the United States of America

A Proclamation

During National Recovery Month, we celebrate the more than 20 million Americans who have had the courage to seek help for substance use disorder, showing millions of others that recovery is possible. We honor their resilience and recommit to making sure that every American has access to the services and support they need to rebuild lives of purpose and hope.

Substance use disorder affects families in every corner of our country. Drug overdoses last year took more than 100,000 American lives. Addressing this crisis is a core pillar of my Unity Agenda—one of the big issues we can tackle together as a Nation.

That work starts by fulfilling the promise of true parity for mental health and substance use disorder treatment for all Americans. Mental health and substance use disorder care is health care. It is essential to people's well-being—to their ability to lead full and productive lives, to find joy and meaning, to take care of themselves and their loved ones, and to give back to their communities and our Nation. It is about dignity. Health insurers should cover it the same way they would cover treatment for a broken bone or any other kind of health condition. And since I took office, that is what we have been fighting to do.

The American Rescue Plan delivered more than $5 billion to expand mental health and substance use disorder services. I have worked with a group of bipartisan members of the Congress to make it easier for doctors to prescribe effective treatments for opioid use disorder, and the Food and Drug Administration has approved two Naloxone products for over-the-counter use, expanding access to life-saving opioid-reversal medications that can prevent fatal overdoses. We have expanded the Nation's system of Certified Community Behavioral Health Clinics, opening 140 new centers to provide frontline care, regardless of a patient's ability to pay. We also launched a nationwide Suicide and Crisis Lifeline (9-8-8), which connects callers to trained counselors around the clock. The Department of Labor created a Recovery-Ready Workplace Resource Hub to help employers support and hire people in recovery.

We have come a long way toward improving access to care and building our Nation's recovery support services infrastructure, but there is much more to do. Last month, my Administration proposed a new rule that would require health insurers to identify any gaps in the mental health and substance use disorder care they provide and to ensure that mental and physical health services are equally accessible. We are also working with States to ensure that millions of Medicaid patients enrolled in private Medicaid health plans have coverage for mental health and substance use disorder services. In all, my Fiscal Year 2024 Budget requests a historic $46 billion for prevention, treatment, and recovery services for substance use disorder, as well as reducing the supply of deadly drugs.

Millions of Americans know and love someone who is in recovery. We want everyone to know that they are never alone. As a Nation working together, we can make recovery real for more Americans.

NOW, THEREFORE, I, JOSEPH R. BIDEN JR., President of the United States of America, by virtue of the authority vested in me by the Constitution and the laws of the United States, do hereby proclaim September 2023 as National Recovery Month. I call upon all citizens, government agencies, private businesses, nonprofit organizations, and other groups to take action to promote recovery and improve the health of our Nation.

IN WITNESS WHEREOF, I have hereunto set my hand this thirty-first day of August, in the year of our Lord two thousand twenty-three, and of the Independence of the United States of America the two hundred and forty-eighth.

[FR Doc. 2023-19338

Filed 9-5-23; 8:45 am]

Billing code 3395-F3-P